DEPARTMENT OF COMMERCE

International Trade Administration

Application for Duty-Free Entry of Scientific Instrument

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Room 2104, 14th and Constitution Avenue NW, Washington, D.C. 20230. Applications may be examined between 8:30 A.M. and 5:00 P.M. in Room 2104, at the above address.

Docket Number: 07-070. Applicant: State University of New York at Binghamton, 4400 Vestal Parkway East, Binghamton, NY 13902. Instrument: Scanning Acoustic Microscope. Manufacturer: Klaus Pintsch, Inc., Germany. Intended Use: The instrument is intended to be used as a research tool for professors and graduate student level researchers. The research is to advance the science and engineering behind modern electronics packaging practices and to develop new packaging paradigms. Research is underway in all areas of packaging, solders, board and package construction, chip joining, roll to roll manufacturing and even fabricating active devices on flexible substrates. The instrument provides a nondestructive means to see into packages and examine the bonding layers and interfaces. Having a spatial resolution of .5 micron or less is a critical parameter because it is one of the factors that determines the minimum feature size that can be detected and imaged. Application accepted by Commissioner of Customs: November 7, 2007.

Dated: December 7, 2007.
Faye Robinson,
Director, Statutory Import Programs Staff, Import Administration.

[FR Doc. E7-24278 Filed 12-14-07; 8:45 am]

BILLING CODE 3510-DS-S